DEPARTMENT OF STATE

[Public Notice: 9713]

Notice of 30 Day Public Comment Period Regarding the National Interest Determination for Otay Water District's Presidential Permit Application

AGENCY: Department of State.

ACTION: Notice.

SUMMARY: On November 25, 2013, the Otay Water District applied for a Presidential Permit from the Department of State (“State Department”) authorizing the construction, connection, operation, and maintenance of a cross-border liquid pipeline for the importation of desalinated seawater at the international boundary between the United States and Mexico in San Diego County, California. On September 2, 2016, after consulting with the public and interested agencies, the Office of Environmental Quality and Transboundary Issues (OES/EQT) at the State Department and the Otay Water District issued a final environmental impact report/environmental impact statement (EIR/EIS). Background information related to the application, including the application and the EIR/EIS, may be found at: http://www.state.gov/p/wha/rt/permit/app/otaypermit/index.htm.

The State Department's review of this application is based upon Executive Order 11423 of August 16, 1968, as amended. As provided in E.O. 11423, the Department is circulating this application to relevant federal agencies for review and comment. Under E.O. 11423, the Department has the responsibility to determine, taking into account views from these agencies and other stakeholders, whether issuing a Presidential Permit to Otay Water District authorizing the construction, connection, operation, and maintenance of a cross-border liquid pipeline for the importation of desalinated seawater would serve the national interest. That determination process involves consideration of many factors, including foreign policy; environmental, cultural, and economic impacts; compliance with applicable law and regulations; and other issues.

Interested members of the public are invited to submit written comments regarding this application. The public comment period will end 30 days from the publication of this notice. Comments are not private. They will be posted on the site http://www.regulations.gov. The comments will not be edited to remove identifying or contact information, and the State Department cautions against including any information that one does not want publicly disclosed. The State Department requests that any part soliciting or aggregating comments received from other persons for submission to the State Department inform those persons that the State Department will not edit their comments to remove identifying or contact information, and that they should not include any information in their comments that they do not want publicly disclosed.

DATES: Comments must be submitted no later than October 14, 2016 at 11:59 p.m.

ADDRESSES: For reasons of efficiency, the State Department encourages the electronic submission of comments through the federal government's eRulemaking Portal (http://www.regulations.gov), enter the Docket No. DOS-2016-0061, and follow the prompts to submit a comment. The State Department also will accept comments submitted in hard copy by mail and postmarked no later than October 14, 2016. Please note that standard mail delivery to the State Department can be delayed due to security screening. To submit comments by mail, use the following address: U.S.-Mexico Border Affairs Office, Room 3924, Department of State, 2201 C St. NW., Washington, DC 20520.

FOR FURTHER INFORMATION CONTACT: Office of Mexican Affairs, Bureau of Western Hemisphere Affairs, via email at WHA-BorderAffairs@state.gov; by phone at 202-647-9894; or by mail at WHA/MEX—Room 3924, Department of State, 2201 C St. NW., Washington, DC 20520.

Dated: September 8, 2016.
Colleen A. Hoey,
Director, Office of Mexican Affairs, Department of State.

[FR Doc. 2016-22094 Filed 9-13-16; 8:45 am]

BILLING CODE 4710-29-P